DEPARTMENT OF DEFENSE

Office of the Secretary

[Transmittal No. 24-1A]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-1A.

Dated: January 9, 2026.
Stephanie J. Bost,
Alternate OSD Federal Register Liaison Officer, Department of Defense.

BILLING CODE 6001-FR-P

BILLING CODE 6001-FR-C

Transmittal No. 24-1A

REPORT OF ENHANCEMENT OR UPGRADE OF SENSITIVITY OF TECHNOLOGY OR CAPABILITY (SEC. 36(B)(5)(C), AECA)

(i) Purchaser: Government of Norway

(ii) Sec. 36(b)(1), AECA Transmittal No.: 16-57

Date: December 20, 2016

Implementing Agency: Navy

(iii) Description: On December 20, 2016 Congress was notified by congressional certification transmittal number 16-57 of the sale, under Section 36(b)(1) of the Arms Export Control Act, of five (5) P-8A Patrol Aircraft, each includes: Commercial Engines, Tactical Open Mission Software (TOMS), Electro-Optical (E.O.) and Infrared (IO) MX-20HD, AN/AAQ-2(V)1 Acoustic System, AN/APY-10 Radar, ALQ-240 Electronic Support Measures; eleven (11) Multifunctional Distribution System Joint Tactical Radio Systems (MIDS JTRS); eight (8) Guardian Laser Transmitter Assemblies (GLTA) for the AN/AAQ-24(V)N; eight (8) System Processors for AN/AAQ-24(V)N; forty-two (42) AN/AAR-54 Missile Warning Sensors for the AN/AAQ-24(V)N; fourteen (14) LN-251 with Embedded Global Positioning Systems (GPS)/Inertial Navigations Systems (EGIs); two thousand (2,000) AN/SSQ-125 Multi-Static Active Coherent (MAC) Source Sonobuoys; spares; spare engine; support equipment; operational support systems; training; maintenance trainer/classrooms; publications; software; engineering and logistics technical assistance; Foreign Liaison Officer support; contractor engineering technical services; repair and return; transportation; aircraft ferry; and other associated training and support. The total estimated program cost was $1.75 billion. Major Defense Equipment (MDE) constituted $1.4 billion of this total.

On October 30, 2019, Congress was notified by congressional certification transmittal number 19-0M of the sale, under Section 36(b)(5)(C) of the AECA, of the inclusion of one (1) additional P-8 aircraft with commercial engines, Tactical Open Mission Software (TOMS), Electro-Optical (E.O.) and Infrared (IO) MX-20HD, AN/AAQ-2(V)1 Acoustic System, AN/APY-10 Radar, ALQ-240 Electronic Support Measures; one (1) Multifunctional Distribution System Joint Tactical Radio Systems (MIDS JTRS); one (1) Guardian Laser Transmitter Assemblies (GLTA) for the AN/AAQ-24(V)N; one (1) System Processors for AN/AAQ-24(V)N; two (2) LN-251 with Embedded Global Positioning Systems (GPS)/Inertial Navigation Systems (EGIs); and associated materiel, support, and services. These additional MDE items resulted in an increase in MDE cost of $100 million, for a total MDE value of $1.5 billion. The estimated total case value increased to $1.85 billion.

This transmittal notifies the addition of the following non-MDE items: equipment and services in support of the major modification of up to six (6) aircraft, including for elements of Increment 3 Block 2 configuration (wideband satellite communication (WBSC) and cross-domain solution (CDS)) upgrades for Norwegian P-8A aircraft; future follow-on sustainment; engineering, logistics, and contractor services; spare engines; support equipment; Electronic Maintenance Training Module (EMTM), previously recognized as Virtual Maintenance Trainer (VMT); Weapons System Trainer (WST), comprised of an Operational Flight Trainer (OFT) and a Weapons Tactical Trainer (WTT); and other related elements of logistics and program support. There is no additional MDE being reported with this notification, and as such the estimated total MDE value remains $1.50 billion. The estimated total value of the new non-MDE items is $1.58 billion, which will result in a revised non-MDE total of $1.93 billion. The revised estimated total case value will increase by $1.93 billion to $3.43 billion.

(iv) Significance: The proposed sale will improve Norway's capability to perform antisubmarine warfare (ASW), anti-surface warfare, and intelligence, surveillance, and reconnaissance missions. Norway will use the enhanced capability as a deterrent to regional threats, to strengthen its homeland defense, to contribute to coalition maritime domain awareness, and to provide regional security in Europe.

(v) Justification: This proposed sale will contribute to the foreign policy and national security of the United States by helping to improve the security of a NATO Ally which is an important force for political stability in Europe. The proposed sale will allow Norway to maintain its Maritime Patrol Aircraft (MPA) capability following retirement of its P-3C MPA. This sale will strengthen NATO's collective defense and enhance Norway's contributions to the Alliance.

(vi) Sensitivity of Technology:

The major aircraft modification which includes Increment 3 Block 2 configuration and the inclusion of new virtual training systems will increase Norway's maritime capability. The upgrades will enhance training systems and aircraft missions, communications, and sensor systems. The WBSC and CDS elements associated with the Increment 3 Block 2 upgrade will provide significant enhancements to the Norwegian P-8A airframe and avionics systems. The upgrades will additionally include new airframe racks, radomes, antennas, sensors, and wiring. The modification incorporates a new combat systems suite with improved computer processing and higher security architecture capability, a WBSC system, a CDS, an ASW signals intelligence capability, and additional communications and acoustics systems to enhance search, detection, and targeting capabilities.

The Sensitivity of Technology Statement contained in the original notification applies to additional items reported here.

The highest level of classification of defense articles, components, and services included in this potential sale is TOP SECRET.

(vii) Date Report Delivered to Congress: November 6, 2024

* as defined in Section 47(6) of the Arms Export Control Act

[FR Doc. 2026-00528 Filed 1-13-26; 8:45 am]

BILLING CODE 6001-FR-P